NUCLEAR REGULATORY COMMISSION

[Docket No. 50-346; NRC-2010-0121]

Firstenergy Nuclear Operating Company and Firstenergy Nuclear Generation Corp.; Notice of Withdrawal of Application for Amendment to Facility Operating License

The U.S. Nuclear Regulatory Commission (the Commission) has granted the request of FirstEnergy Nuclear Operating Company and FirstEnergy Nuclear Generation Corp. to withdraw its June 2, 2009, application for proposed amendment to Facility Operating License No. NPF-3 for the Davis-Besse Nuclear Power Station, Unit No. 1, located in Ottawa County, Ohio.

The proposed amendment would have excluded the source range neutron flux instrument channel preamplifier from the Channel Calibration requirements of Technical Specification (TS) 3.3.9, “Source Range Neutron Flux,” and TS 3.9.2, “Nuclear Instrumentation.”

The Commission had previously issued a Notice of Consideration of Issuance of Amendment published in the Federal Register on July 28, 2009 (74 FR 37248). However, by letter dated February 16, 2010, the licensee withdrew the proposed change.

For further details with respect to this action, see the application for amendment dated June 2, 2009, and the licensee's letter dated February 16, 2010, which withdrew the application for license amendment. Documents may be examined, and/or copied for a fee, at the NRC's Public Document Room (PDR), located at One White Flint North, Room O1 F21, 11555 Rockville Pike (first floor), Rockville, Maryland. Publicly available records will be accessible electronically from the Agencywide Documents Access and Management Systems (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 15th day of March 2010.
For the Nuclear Regulatory Commission.
Michael Mahoney,
Project Manager, Plant Licensing Branch III-2, Division of Operating Reactor Licensing, Office of Nuclear Reactor Regulation.

[FR Doc. 2010-6320 Filed 3-22-10; 8:45 am]

BILLING CODE 7590-01-P